DEPARTMENT OF HOUSING AND URBAN DEVELOPMENT

[Docket No. FR-5383-N-28]

Notice of Proposed Information Collection for Public Comment; Resident Opportunities and Supportive Services (ROSS) Program Forms for Applying for Funding

AGENCY: Office of the Assistant Secretary for Public and Indian Housing, HUD.

ACTION: Notice.

SUMMARY: The proposed information collection requirement described below will be submitted to the Office of Management and Budget (OMB) for review, as required by the Paperwork Reduction Act. The Department is soliciting public comments on the subject proposal.

DATES: Comments Due Date: March 4, 2011.

ADDRESSES: Interested persons are invited to submit comments regarding this proposal. Comments should refer to the proposal by name/or OMB Control number and should be sent to: Colette Pollard, Departmental Reports Management Officer, QDAM, Department of Housing and Urban Development, 451 7th Street, SW., Room 4160, Washington, DC 20410-5000; telephone (202) 402-3400, (this is not a toll-free number) or e-mail Ms. Pollard at Colette_Pollard@hud.gov. Persons with hearing or speech impairments may access this number through TTY by calling the toll-free Federal Information Relay Service at (800) 877-8339. (Other than the HUD USER information line and TTY numbers, telephone numbers are not toll-free.)

FOR FURTHER INFORMATION CONTACT: Arlette Mussington (202) 402-4109, for copies of the proposed forms and other available documents. (This is not a toll-free number). Additional information is provided at http://www.hud.gov/offices/pih/programs/ph/cn/docs/2010-pre-notice.pdf.

SUPPLEMENTARY INFORMATION: The Department will submit the proposed information collection to OMB for review, as required by the Paperwork Reduction Act of 1995 (44 U.S.C. Chapter 35, as amended). This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology; e.g., permitting electronic submission of responses.

This Notice also lists the following information:

Title of Proposal: Application for the Resident Opportunities and Supportive Services (ROSS) Program.

OMB Approval Number: 2577-0229.

Form Numbers: HUD-52752, HUD-52753, HUD-52754, HUD-52755, HUD-52767, HUD-52768, HUD-52769.

Description of the need for the information and proposed use: Applicants for ROSS Service Coordinator grant funds submit applications for Service Coordinator positions. The grant program is being changed to provide funding for Service Coordinators only. The application is being streamlined. Applicants describe the needs of their residents and the services and partners available in the community, their past performance in similar programs, their ability to commit match funds, and indicate their expected outputs and outcomes.

Respondents: Public Housing Authorities, Tribes/TDHEs, Not-for-profit institutions, Resident Associations.

Frequency of Submission: On occasion.

Number of respondents:

| Annual responses | Hours per response | Burden hours
ROSS SC | 400 | 7 | 1500
ROSS FSS | 250 | 6 | 2800

Total Estimated Burden Hours: 4,026.

Status: Revision of a currently approved collection.

Authority: Section 3506 of the Paperwork Reduction Act of 1995, 44 U.S.C. 35, as amended.

Members of affected public: Public housing agencies, non-profits, resident associations.

Estimation of the total number of hours needed to prepare the information collection including number of respondents: 650 PHAs, Tribes/TDHEs, non-profits, or resident groups apply for funding under ROSS each year. The total burden for application and post-award reporting is 4,026 hours.

Dated: December 20, 2010.
Merrie Nichols-Dixon,
Acting Deputy Assistant Secretary for Office of Policy, Program, and Legislative Initiatives.

[FR Doc. 2010-33105 Filed 12-30-10; 8:45 am]

BILLING CODE 4210-67-P